DEPARTMENT OF DEFENSE

Defense Acquisition Regulations System

48 CFR Part 237

[Docket DARS-2018-0024]

RIN 0750-AJ49

Defense Federal Acquisition Regulation Supplement: Educational Service Agreements (DFARS Case 2017-D039)

AGENCY: Defense Acquisition Regulations System, Department of Defense (DoD).

ACTION: Final rule; correction.

SUMMARY: DoD is making a correction to the docket number listed in the final rule published on April 13, 2018, which amended the Defense Federal Acquisition Regulation Supplement (DFARS) to remove limiting language related to educational service agreements. This correction will allow DoD to make agreements that permit payment for Masters of Laws degrees and other legal training programs, in accordance with applicable law, regulation, and policy.

DATES: Effective April 24, 2018. Applicable beginning April 13, 2018.

FOR FURTHER INFORMATION CONTACT: Ms. Jennifer Hawes, telephone 571-372-6115.

SUPPLEMENTARY INFORMATION: In the final rule published at 83 FR 16004 on April 13, 2018, on page 16004, in the third column, the docket number cited at the top of the document, DARS-2018-0013, is corrected to read DARS-2018-0024.

Jennifer Lee Hawes,
Regulatory Control Officer, Defense Acquisition Regulations System.

[FR Doc. 2018-08551 Filed 4-23-18; 8:45 am]

BILLING CODE 5001-06-P